DEPARTMENT OF VETERANS AFFAIRS

Research Advisory Committee on Gulf War Veterans' Illnesses; Notice of Meeting

The Department of Veterans Affairs (VA) gives notice under Public Law 92-463 (Federal Advisory Committee Act) that the Research Advisory Committee on Gulf War Veterans' Illnesses will meet on September 19-21, 2005 in room 230 at the Department of Veterans Affairs, 810 Vermont Avenue, NW., Washington, DC. The meeting will convene at 8 a.m. and adjourn at 5 p.m. each day. The meeting will be open to the public.

The purpose of the Committee is to provide advice and make recommendations to the Secretary of Veterans Affairs on proposed research studies, research plans and research strategies relating to the health consequences of military service in the Southwest Asia theater of operations during the Gulf War.

The Committee will review VA program activities related to Gulf War veterans' illnesses and updates on scientific research on Gulf War illnesses published since the last Committee meeting. Additionally, there will be preliminary information on treatment research for Gulf War illnesses, research related to possible health effects of exposures during the 1991 Gulf War, and discussion of Committee business and activities.

Members of the public may submit written statements for the Committee's review to Dr. William J. Goldberg, Designated Federal Officer, Department of Veterans Affairs (121E), 810 Vermont Avenue, NW., Washington, DC 20420. Any member of the public seeking additional information should contact Dr. William J. Goldberg at (202) 254-0294.

Dated: July 19, 2005.
By direction of the Secretary.
E. Philip Riggin,
Committee Management Officer.

[FR Doc. 05-14815 Filed 7-26-05; 8:45 am]

BILLING CODE 8320-01-M